DEPARTMENT OF ENERGY

Federal Energy Regulatory Commission

Combined Notice of Filings

Take notice that the Commission has received the following Natural Gas Pipeline Rate and Refund Report filings:

Filings Instituting Proceedings

Docket Number: PR19-10-000.

Applicants: Louisville Gas and Electric Company.

Description: Tariff filing per 284.123(b),(e)/: Revised Stmt of Operating Conditions TCJA Surcredit to be effective 10/1/2018.

Filed Date: 10/25/18.

Accession Number: 201810255035.

Comments/Protests Due: 5 p.m. ET 11/15/18.

Docket Number: PR19-11-000.

Applicants: National Fuel Gas Distribution Corporation.

Description: Tariff filing per 284.123(b),(e)/: Compliance Filing—Application to Amend Rates to be effective 10/30/2018.

Filed Date: 10/30/18.

Accession Number: 201810305210.

Comments/Protests Due: 5 p.m. ET 11/20/18.

Docket Number: PR19-12-000.

Applicants: Washington Gas Light Company.

Description: Tariff filing per 284.123(b),(e)/: Annual Retainage Allowance and LAUF Adjustment to be effective 11/1/2018.

Filed Date: 10/31/18.

Accession Number: 201810315106.

Comments/Protests Due: 5 p.m. ET 11/21/18.

Docket Numbers: RP19-157-000.

Applicants: Transcontinental Gas Pipe Line Company, LLC.

Description: § 4(d) Rate Filing: Negotiated Rates—Atlantic Sunrise—SCS—Puddlefield to be effective 12/1/2018.

Filed Date: 10/31/18.

Accession Number: 20181031-5002.

Comments Due: 5 p.m. ET 11/13/18.

Docket Numbers: RP19-158-000.

Applicants: Fayetteville Express Pipeline LLC.

Description: § 4(d) Rate Filing: Fuel Filing on 10-31-18 to be effective 12/1/2018.

Filed Date: 10/31/18.

Accession Number: 20181031-5027.

Comments Due: 5 p.m. ET 11/13/18.

Docket Numbers: RP19-159-000.

Applicants: ETC Tiger Pipeline, LLC.

Description: § 4(d) Rate Filing: Fuel Filing on 10-31-18 to be effective 12/1/2018.

Filed Date: 10/31/18.

Accession Number: 20181031-5028.

Comments Due: 5 p.m. ET 11/13/18.

Docket Numbers: RP19-160-000.

Applicants: Algonquin Gas Transmission, LLC.

Description: § 4(d) Rate Filing: AGT-BUG Ramapo 11-1-18 Releases to be effective 11/1/2018.

Filed Date: 10/31/18.

Accession Number: 20181031-5029.

Comments Due: 5 p.m. ET 11/13/18.

Docket Numbers: RP19-161-000.

Applicants: Dominion Energy Transmission, Inc.

Description: § 4(d) Rate Filing: DETI—October 31, 2018 Negotiated Rate Agreement to be effective 11/1/2018.

Filed Date: 10/31/18.

Accession Number: 20181031-5036.

Comments Due: 5 p.m. ET 11/13/18.

Docket Numbers: RP19-162-000.

Applicants: MIGC LLC.

Description: § 4(d) Rate Filing: Gas Quality—Oxygen Content to be effective 12/1/2018.

Filed Date: 10/31/18.

Accession Number: 20181031-5044.

Comments Due: 5 p.m. ET 11/13/18.

Docket Numbers: RP19-163-000.

Applicants: Transcontinental Gas Pipe Line Company, LLC.

Description: § 4(d) Rate Filing: Rate Schedules GSS & LSS Tracker eff 11/1/2018—Dominion to be effective 11/1/2018.

Filed Date: 10/31/18.

Accession Number: 20181031-5045.

Comments Due: 5 p.m. ET 11/13/18.

Docket Numbers: RP19-164-000.

Applicants: Nautilus Pipeline Company, L.L.C.

Description: § 4(d) Rate Filing: Negotiated Rate—BP America 630155 eff 11-1-18 to be effective 11/1/2018.

Filed Date: 10/31/18.

Accession Number: 20181031-5046.

Comments Due: 5 p.m. ET 11/13/18.

Docket Numbers: RP19-165-000.

Applicants: WBI Energy Transmission, Inc.

Description: § 4(d) Rate Filing: 2018 Section 4 Rate Case to be effective 12/1/2018.

Filed Date: 10/31/18.

Accession Number: 20181031-5048.

Comments Due: 5 p.m. ET 11/13/18.

Docket Numbers: RP19-166-000.

Applicants: Transcontinental Gas Pipe Line Company, LLC.

Description: § 4(d) Rate Filing: Rate Schedules LSS & SS-2 Tracker eff 11/1/2018—National Fuel to be effective 11/1/2018.

Filed Date: 10/31/18.

Accession Number: 20181031-5052.

Comments Due: 5 p.m. ET 11/13/18.

Docket Numbers: RP19-167-000.

Applicants: Millennium Pipeline Company, LLC.

Description: § 4(d) Rate Filing: Negotiated Rate Agmt—DTE to be effective 11/1/2018.

Filed Date: 10/31/18.

Accession Number: 20181031-5073.

Comments Due: 5 p.m. ET 11/13/18.

Docket Numbers: RP19-168-000.

Applicants: Texas Gas Transmission, LLC.

Description: § 4(d) Rate Filing: Cap Rel Neg Rate Agmt (Kaiser 35448 to Tenaska 37572) to be effective 11/1/2018.

Filed Date: 10/31/18.

Accession Number: 20181031-5087.

Comments Due: 5 p.m. ET 11/13/18.

Docket Numbers: RP19-169-000.

Applicants: Texas Gas Transmission, LLC.

Description: § 4(d) Rate Filing: Neg Rate Agmt from Perm Cap Rel (RE Gas 35433, 34955 to PennEnergy 37580, 37579) to be effective 11/1/2018.

Filed Date: 10/31/18.

Accession Number: 20181031-5088.

Comments Due: 5 p.m. ET 11/13/18.

Docket Numbers: RP19-170-000.

Applicants: Texas Gas Transmission, LLC.

Description: § 4(d) Rate Filing: Cap Rel Neg Rate Agmts (Gulfport 34939, 35446, to EcoEnergy 37574, 37575) to be effective 11/1/2018.

Filed Date: 10/31/18.

Accession Number: 20181031-5093.

Comments Due: 5 p.m. ET 11/13/18.

Docket Numbers: RP19-171-000.

Applicants: Texas Gas Transmission, LLC.

Description: § 4(d) Rate Filing: Cap Rel Neg Rate Agmt (EM Energy 35451 to Eco-Energy 37581) to be effective 11/1/2018.

Filed Date: 10/31/18.

Accession Number: 20181031-5094.

Comments Due: 5 p.m. ET 11/13/18.

Docket Numbers: RP19-172-000.

Applicants: Wyoming Interstate Company, L.L.C.

Description: § 4(d) Rate Filing: FL&U Quarterly Update Filing to be effective 12/1/2018.

Filed Date: 10/31/18.

Accession Number: 20181031-5098.

Comments Due: 5 p.m. ET 11/13/18.

Docket Numbers: RP19-174-000.

Applicants: Trailblazer Pipeline Company LLC.

Description: § 4(d) Rate Filing: Neg Rate 2018-10-31 MS (2), Koch, BP, GP to be effective 11/1/2018.

Filed Date: 10/31/18.

Accession Number: 20181031-5103.

Comments Due: 5 p.m. ET 11/13/18.

Docket Numbers: RP19-175-000.

Applicants: Northern Border Pipeline Company.

Description: § 4(d) Rate Filing: Negotiated Rate Agreement—Nicor to be effective 11/1/2018.

Filed Date: 10/31/18.

Accession Number: 20181031-5104.

Comments Due: 5 p.m. ET 11/13/18.

Docket Numbers: RP19-176-000.

Applicants: Texas Gas Transmission, LLC.

Description: § 4(d) Rate Filing: Neg Rate Agmt from Perm Cap Rel (BP 28815 to Riverbend 37584) to be effective 10/31/2018.

Filed Date: 10/31/18.

Accession Number: 20181031-5107.

Comments Due: 5 p.m. ET 11/13/18.

Docket Numbers: RP19-177-000.

Applicants: Natural Gas Pipeline Company of America.

Description: § 4(d) Rate Filing: Negotiated Rate Agreement-CapacityRelease Macquarie 10312018 to be effective 10/31/2018.

Filed Date: 10/31/18.

Accession Number: 20181031-5108.

Comments Due: 5 p.m. ET 11/13/18.

Docket Numbers: RP19-178-000.

Applicants: Gulf Crossing Pipeline Company LLC.

Description: § 4(d) Rate Filing: Amendment to Neg Rate Agmt (Enterprise 12-11) to be effective 11/1/2018.

Filed Date: 10/31/18.

Accession Number: 20181031-5127.

Comments Due: 5 p.m. ET 11/13/18.

Docket Numbers: RP19-179-000.

Applicants: Gulf South Pipeline Company, LP.

Description: § 4(d) Rate Filing: Cap Rel Neg Rate Agmt (FPL 41619 to Spire 50228) to be effective 11/1/2018.

Filed Date: 10/31/18.

Accession Number: 20181031-5129.

Comments Due: 5 p.m. ET 11/13/18.

Docket Numbers: RP19-180-000.

Applicants: Gulf South Pipeline Company, LP.

Description: § 4(d) Rate Filing: Cap Rel Neg Rate Agmt (Methanex 42805 to BP 50220) to be effective 11/1/2018.

Filed Date: 10/31/18.

Accession Number: 20181031-5130.

Comments Due: 5 p.m. ET 11/13/18.

Docket Numbers: RP19-181-000.

Applicants: Gulf South Pipeline Company, LP.

Description: § 4(d) Rate Filing: Cap Rel Neg Rate Agmts (Atlanta 8438 to various eff 11/1/2018) to be effective 11/1/2018.

Filed Date: 10/31/18.

Accession Number: 20181031-5132.

Comments Due: 5 p.m. ET 11/13/18.

Docket Numbers: RP19-182-000.

Applicants: Central Kentucky Transmission Company.

Description: eTariff filing per 1430: Central Kentucky 501-G Report.

Filed Date: 10/31/18.

Accession Number: 20181031-5172.

Comments Due: 5 p.m. ET 11/13/18.

Docket Numbers: RP19-183-000.

Applicants: NEXUS Gas Transmission, LLC.

Description: § 4(d) Rate Filing: NegRates—DTE Gas & DTE Electric Amendments to be effective 11/1/2018.

Filed Date: 10/31/18.

Accession Number: 20181031-5175.

Comments Due: 5 p.m. ET 11/13/18.

Docket Numbers: RP19-184-000.

Applicants: Alliance Pipeline L.P.

Description: eTariff filing per 1430: Alliance Form No. 501-G Waiver Request.

Filed Date: 10/31/18.

Accession Number: 20181031-5180.

Comments Due: 5 p.m. ET 11/13/18.

Docket Numbers: RP19-185-000.

Applicants: Texas Eastern Transmission, LP.

Description: § 4(d) Rate Filing: Non-conforming Agreement—CFE International Contract 911557 to be effective 11/1/2018.

Filed Date: 10/31/18.

Accession Number: 20181031-5182.

Comments Due: 5 p.m. ET 11/13/18.

Docket Numbers: RP19-186-000.

Applicants: NEXUS Gas Transmission, LLC.

Description: § 4(d) Rate Filing: Negrates—Chesapeake Releases eff 11/1/2018 to be effective 11/1/2018.

Filed Date: 10/31/18.

Accession Number: 20181031-5183.

Comments Due: 5 p.m. ET 11/13/18.

Docket Numbers: RP19-188-000.

Applicants: Transcontinental Gas Pipe Line Company, LLC.

Description: § 4(d) Rate Filing: Negotiated Rates—Cherokee AGL—Replacement Shippers—Nov 2018 to be effective 11/1/2018.

Filed Date: 10/31/18.

Accession Number: 20181031-5192.

Comments Due: 5 p.m. ET 11/13/18.

Docket Numbers: RP19-190-000.

Applicants: Algonquin Gas Transmission, LLC.

Description: § 4(d) Rate Filing: NegRate—NStar to Constellation 798143 to be effective 11/1/2018.

Filed Date: 10/31/18.

Accession Number: 20181031-5202.

Comments Due: 5 p.m. ET 11/13/18.

Docket Numbers: RP19-191-000.

Applicants: Ruby Pipeline, L.L.C.

Description: § 4(d) Rate Filing: Update Filing—Fuel and EPC to be effective 12/1/2018.

Filed Date: 10/31/18.

Accession Number: 20181031-5206.

Comments Due: 5 p.m. ET 11/13/18.

Docket Numbers: RP19-192-000.

Applicants: Rover Pipeline LLC.

Description: § 4(d) Rate Filing: Assignment of Non-Conforming Agreement to be effective 11/1/2018.

Filed Date: 10/31/18.

Accession Number: 20181031-5212.

Comments Due: 5 p.m. ET 11/13/18.

Docket Numbers: RP19-193-000.

Applicants: Texas Eastern Transmission, LP.

Description: § 4(d) Rate Filing: Negotiated Rates eff 11/1/2018—ConEd NJNY Releases #2 to be effective 11/1/2018.

Filed Date: 10/31/18.

Accession Number: 20181031-5213.

Comments Due: 5 p.m. ET 11/13/18.

Docket Numbers: RP19-194-000.

Applicants: Rover Pipeline LLC.

Description: § 4(d) Rate Filing: Non-Conforming Agreement List Update on 10/31/18 to be effective 11/1/2018.

Filed Date: 10/31/18.

Accession Number: 20181031-5214.

Comments Due: 5 p.m. ET 11/13/18.

Docket Numbers: RP19-195-000.

Applicants: Kinder Morgan Louisiana Pipeline LLC.

Description: § 4(d) Rate Filing: Compliance Filing—Docket No. CP17-22-000—Sabine Pass Expansion Project to be effective 12/1/2018.

Filed Date: 10/31/18.

Accession Number: 20181031-5215.

Comments Due: 5 p.m. ET 11/13/18.

Docket Numbers: RP19-196-000.

Applicants: Texas Eastern Transmission, LP.

Description: § 4(d) Rate Filing: Negotiated rates—MC Global Releases eff 11/1/2018 to be effective 11/1/2018.

Filed Date: 10/31/18.

Accession Number: 20181031-5216.

Comments Due: 5 p.m. ET 11/13/18.

Docket Numbers: RP19-197-000.

Applicants: Kinder Morgan Louisiana Pipeline LLC.

Description: § 4(d) Rate Filing: Fuel Rate Change and Other Provisions to be effective 12/1/2018.

Filed Date: 10/31/18.

Accession Number: 20181031-5217.

Comments Due: 5 p.m. ET 11/13/18.

Docket Numbers: RP19-198-000.

Applicants: Rockies Express Pipeline LLC.

Description: § 4(d) Rate Filing: Neg Rate 2018-10-31 8 E2W to be effective 11/1/2018.

Filed Date: 10/31/18.

Accession Number: 20181031-5218.

Comments Due: 5 p.m. ET 11/13/18.

Docket Numbers: RP19-199-000.

Applicants: Colorado Interstate Gas Company, L.L.C.

Description: § 4(d) Rate Filing: Negotiated Rate Update Filing (CFI and Smith) to be effective 12/1/2018.

Filed Date: 10/31/18.

Accession Number: 20181031-5223.

Comments Due: 5 p.m. ET 11/13/18.

Docket Numbers: RP19-200-000.

Applicants: Kern River Gas Transmission Company.

Description: § 4(d) Rate Filing: 2018 November Negotiated Rates to be effective 11/1/2018.

Filed Date: 10/31/18.

Accession Number: 20181031-5231.

Comments Due: 5 p.m. ET 11/13/18.

Docket Numbers: RP19-201-000.

Applicants: Florida Gas Transmission Company, LLC.

Description: § 4(d) Rate Filing: New Service Agreement with Shell filed 10/31/18 to be effective 12/1/2018.

Filed Date: 10/31/18.

Accession Number: 20181031-5244.

Comments Due: 5 p.m. ET 11/13/18.

Docket Numbers: RP19-202-000.

Applicants: Florida Gas Transmission Company, LLC.

Description: § 4(d) Rate Filing: Update Non-Conforming List (Shell) on 10/31/18 to be effective 12/1/2018.

Filed Date: 10/31/18.

Accession Number: 20181031-5248.

Comments Due: 5 p.m. ET 11/13/18.

Docket Numbers: RP19-204-000.

Applicants: Texas Eastern Transmission, LP.

Description: § 4(d) Rate Filing: TETLP ASA DEC 2018 FILING to be effective 12/1/2018.

Filed Date: 10/31/18.

Accession Number: 20181031-5259.

Comments Due: 5 p.m. ET 11/13/18.

Docket Numbers: RP19-205-000.

Applicants: Ozark Gas Transmission, L.L.C.

Description: eTariff filing per 1430: OGT FERC Form 501-G Waiver Request.

Filed Date: 10/31/18.

Accession Number: 20181031-5264.

Comments Due: 5 p.m. ET 11/13/18.

Docket Numbers: RP19-206-000.

Applicants: Mississippi Canyon Gas Pipeline, L.L.C.

Description: eTariff filing per 1430: MCGP Extension to file Form 501-G.

Filed Date: 10/31/18.

Accession Number: 20181031-5274.

Comments Due: 5 p.m. ET 11/5/18.

Docket Numbers: RP19-207-000.

Applicants: Guardian Pipeline, L.L.C.

Description: § 4(d) Rate Filing: Non-Conforming and Negotiated Rate Agreement—Wisconsin Public Service Corp to be effective 11/1/2018.

Filed Date: 10/31/18.

Accession Number: 20181031-5282.

Comments Due: 5 p.m. ET 11/13/18.

Docket Numbers: RP19-208-000.

Applicants: Transcontinental Gas Pipe Line Company, LLC.

Description: § 4(d) Rate Filing: Rate Schedules LSS and SS-2 PS/GHG Tracker Filing eff 11/1/2017 to be effective 11/1/2017.

Filed Date: 10/31/18.

Accession Number: 20181031-5283.

Comments Due: 5 p.m. ET 11/13/18.

Docket Numbers: RP19-210-000.

Applicants: Northern Natural Gas Company.

Description: § 4(d) Rate Filing: 20181031 Negotiated Rates to be effective 11/1/2018.

Filed Date: 10/31/18.

Accession Number: 20181031-5285.

Comments Due: 5 p.m. ET 11/13/18.

Docket Numbers: RP19-211-000.

Applicants: Columbia Gulf Transmission, LLC.

Description: § 4(d) Rate Filing: Periodic TRA—2018 to be effective 12/1/2018.

Filed Date: 10/31/18.

Accession Number: 20181031-5286.

Comments Due: 5 p.m. ET 11/13/18.

Docket Numbers: RP19-213-000.

Applicants: Fayetteville Express Pipeline LLC.

Description: § 4(d) Rate Filing: Service Agreement Assignment Filing on 10/31/18 to be effective 11/1/2018.

Filed Date: 10/31/18.

Accession Number: 20181031-5288.

Comments Due: 5 p.m. ET 11/13/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2018.
Kimberly D. Bose,
Secretary.

[FR Doc. 2018-24329 Filed 11-6-18; 8:45 am]

BILLING CODE 6717-01-P